DEPARTMENT OF ENERGY

Federal Energy Regulatory Commission

Notice of Application Tendered for Filing With the Commission Soliciting Additional Study Requests and Establishing Procedures for Relicensing and a Deadline for Submission of Final Amendments

May 2, 2000.

Take notice that the following hydroelectric application has been filed with the Commission and is available for public inspection:

a. Type of Application: New Major License.

b. Project No.: P-2312-014.

c. Date Filed: March 31, 2000.

d. Applicant: PP&L Great Works, L.L.C.

e. Name of Project: Great Works Hydro Project.

f. Location: On the Penobscot River in Penobscot County, near Old Town, Maine.

g. Filed Pursuant to: Federal Power Act 16 U.S.C. 791(a)-825(r).

h. Applicant Contact: Robert Burke, Esq., Vice President, Chief Council and Secretary, PP&L Great Works, L.L.C., 11350 Random Hills Road, Suite 400, Fairfax, VA 22030, (703) 293-2600.

i. FERC Contact: Ed Lee (202) 219-2809 or E-mail address at Ed.Lee@FERC.fed.us.

j. Comment Date: 60 days from the filing date of license application.

All documents (original and eight copies) should be filed with: David P. Boegers, Secretary, Federal Energy Regulatory Commission, 888 First Street, NE, Washington, DC 20426.

k. Description of Project: The existing Great Works Project consists of: (1) The Great Works Dam; (2) a 160-acre reservoir; (3) a 182-foot-long non-overflow structure; (4) an uncontrolled 850-foot-long concrete and timber crib spillway; (5) a 230-foot-long Denil fishway at the powerhouse; (6) a 216-foot-long powerhouse integral with the dam housing 11 generating units for a total installed capacity of 7,655-kW; (7) a 250-foot-long Denil fishway at the spillway; and (8) appurtenant facilities. Penobscot Hydro estimates that the total average annual generation would be 23, 640 MWh. The applicant is not proposing any changes to its powerhouse, generating units and equipment. Modifications are proposed to both upstream fish passage facilities and the downstream bypass, and the project dam.

l. With this notice, we are initiating consultation with the Maine State Historic Preservation Officer (SHPO), as required by section 106, National Historic Preservation Act, and the regulations of the Advisory Council on Historic Preservation, 36 CFR 800.4.

m. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the filing date of this application and serve a copy of the request on the applicant.

n. Procedural schedule and final amendments: The application will be processed according to the following milestones, some of which may be combined to expedite processing:

Notice of application has been accepted for filing

Notice of NEPA Scoping (unless scoping has already occurred)

Notice of application is ready for environmental analysis

Final amendments to the application must be filed with the Commission*

Notice of the availability of the draft NEPA document

Notice of the availability of the final NEPA document

Order issuing the Commission's decision on the application

* Final amendments to the application must be filed with the Commission no later than 30 days from the issuance date of the notice of ready for environmental analysis.

David P. Boergers,
Secretary.

[FR Doc. 00-11355 Filed 5-5-00; 8:45 am]

BILLING CODE 6717-01-M